ENVIRONMENTAL PROTECTION AGENCY

[ER-FRL-6698-4]

Environmental Impacts Statements; Notice of Availability

Responsible Agency: Office of Federal Activities, General Information (202) 564-7167 or http://www.epa.gov/compliance/nepa/.

Weekly receipt of Environmental Impact Statements

Filed 04/21/2008 through 04/25/2008

Pursuant to 40 CFR 1506.9.

EIS No. 20080155, Final EIS, AFS, MT, Cooney McKay Forest Health and Fuels Reduction Project, Proposed to Restore Desirable Vegetative Conditions, Swan Valley near Condon, Swan Lake Ranger District, Flathead National Forest, Lake and Missoula Counties, MT, Wait Period Ends: 06/02/2008, Contact: Joleen Dunham 406-837-7510.

EIS No. 20080156, Draft EIS, NRC, GA, GENERIC—License Renewal of Nuclear Plants, Supplement 34 to NUREG-1437, Regarding Vogtle Electric Generating Plant Units 1 and 2 (VEGP) near Waynesboro, GA, Comment Period Ends: 07/16/2008, Contact: Justin P. Leous 301-415-2864.

EIS No. 20080157, Final EIS, AFS, WA, Gifford-Pinchot National Forest and Columbia River Gorge National Scenic Area (Washington Portion) Site-Specific Invasive Plant Treatment Project, Implementation, Skamania, Cowlitz, Lewis, Clark, Klickitat Counties, WA, Wait Period Ends: 06/02/2008, Contact: Carol A. Chandler 360-891-5108.

EIS No. 20080158, Final Supplement, IBR, CA, Environmental Water Account (EWA) Project, Preferred Alternative is Fixed Purchase Alternative, Provide an Evaluation of 2004 Final EIS/EIR Environmental Water Account (EWA) and Effects Associated with Extending the Current EWA's through 2011, CA, Wait Period Ends: 06/02/2008, Contact: Sammie Cervantes 916-978-5189.

EIS No. 20080159, Second Draft Supplement, NOA, 00, Atlantic Mackerel, Squid and Butterfish, Fishery Management Plan, Amendment No. 10, Develop a Rebuilding Program that Allows the Butterfish Stock to Rebuild in the Shortest Amount of Time Possible, Exclusive Economic Zone (EEZ) off the U.S. Atlantic Coast, Comment Period Ends: 06/16/2008, Contact: Patricia A. Kurkul 978-281-9250.

EIS No. 20080160, Draft EIS, SFW, CA, Cullinan Ranch Unit Restoration Project, Proposing a Restoration Plan for 1,500 Acres of Former Hayfield Farm Land, San Pablo Bay, Issuance of Permits and/or Approval from Section 7 Endangered Species Act and U.S. Army COE Section 404 Permit, San Pablo Bay National Wildlife Refuge, CA, Comment Period Ends: 06/17/2008, Contact: Christy Smith 707-769-4200.

EIS No. 20080161, Final EIS, NPS, 00, Quarry Visitor Center Treatment Project, To Address the Structural Deterioration, Dinosaur National Monument, CO and UT, Wait Period Ends: 06/02/2008, Contact: Tom Thomas 303-969-2310.

EIS No. 20080162, Draft EIS, FRC, MD, Sparrows Point Liquefield Natural Gas (LNG) Import Terminal Expansion and Natural Gas Pipeline Facilities, Construction and Operation, Application Authorization, U.S. COE Section 10 and 404 Permits, Baltimore County, MD, Comment Period Ends: 06/16/2008, Contact: Andy Black 1-866-208-3372.

EIS No. 20080163, Draft EIS, AFS, AK, Spencer Mineral Materials Project, Proposal to Develop and Extract Quarry Rock and Gravel from a Site near Spencer Glacier, Chugach National Forest, Kenal Borough, AK, Comment Period Ends: 06/16/2008, Contact: Alice Allen 605-673-4853.

EIS No. 20080164, Draft EIS, NRC, PA, GENERIC—License Renewal of Nuclear Plants, Supplement 35 to NUREG-1437, Regarding Susquehanna Steam Electric Station, Units 1 and 2, Issuing Nuclear Power Plant Operating Licenses for a 20-Year Period, PA, Comment Period Ends: 07/21/2008, Contact: Drew Stuyvenberg 301-415-4006.

EIS No. 20080165, Draft EIS, FHW, 00, Interstate 5 Columbia River Crossing Project, Bridge, Transit, and Highway Improvements, from State Route 500 in Vancouver, WA to Columbia Boulevard in Portland, OR, Funding, U.S. COE Section 10 & 404 Permits, NPDES Permit, Comment Period Ends: 07/01/2008, Contact: John McAvoy 360-619-7591.

Amended Notices

EIS No. 20080134, Draft EIS, NPS, MI, Sleeping Bear Dunes National Lakeshore, General Management Plan and Wilderness Study, Implementation, Benzie and Leelanau Counties, MI, Comment Period Ends: 06/13/2008, Contact: Nick Chevance 402-661-1844. Revision to FR Notice Published 04/18/2008: Correction of Comment from 6/02/2008 to 6/13/2008

EIS No. 20080139, Draft EIS, FHW, MN, Trunk Highway 23 and U.S. Highway 71 Project, Construction of One or More Grade-Separated Bridge Crossings, Dovre Township, Northeast of Wilmar County, Kandiyohi, MN, Comment Period Ends: 06/06/2008, Contact: Lowell Flaten 320-214-6367. Revision of FR Notice Published 04/18/2008: Extending Comment Period from 6/02/2008 to 06/06/2008.

Dated: April 29, 2008.
Robert W. Hargrove,
Director, NEPA Compliance Division, Office of Federal Activities.

[FR Doc. E8-9744 Filed 5-1-08; 8:45 am]

BILLING CODE 6560-50-P